DEPARTMENT OF TRANSPORTATION

Federal Aviation Administration

14 CFR Part 39

[Docket No. FAA-2023-2231; Project Identifier MCAI-2022-01623-R; Amendment 39-22684; AD 2024-04-05]

RIN 2120-AA64

Airworthiness Directives; Leonardo S.p.a. Helicopters

AGENCY: Federal Aviation Administration (FAA), DOT.

ACTION: Final rule.

SUMMARY: The FAA is adopting a new airworthiness directive (AD) for all Leonardo S.p.a. Model AB412 and AB412 EP helicopters. This AD was prompted by reports of cracks in the lateral mounts of the main transmission support case. This AD requires repetitive visual inspections and fluorescent penetrant inspections (FPI) and, depending on the results, corrective action, as specified in a European Union Aviation Safety Agency (EASA) AD, which is incorporated by reference. The FAA is issuing this AD to address the unsafe condition on these products.

DATES: This AD is effective April 19, 2024.

The Director of the Federal Register approved the incorporation by reference of a certain publication listed in this AD as of April 19, 2024.

ADDRESSES:

AD Docket: You may examine the AD docket at regulations.gov under Docket No. FAA-2023-2231; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For EASA material that is identified in this final rule, contact EASA, Konrad-Adenauer-Ufer 3, 50668 Cologne, Germany; phone +49 221 8999 000; email Ads@easa.europa.eu; website easa.europa.eu. You may find the EASA material on the EASA website ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2023-2231.

Other Related Service Information: For Bell Helicopter service information identified in this final rule, contact Bell Textron, Inc., P.O. Box 482, Fort Worth, TX 76101; phone 1-450-437-2862 or 1-800-363-8023; fax 1-450-433-0272; email productsupport@bellflight.com; or at bellflight.com/support/contact-support. You may also view this service information at the FAA contact information under Material Incorporated by Reference above.

FOR FURTHER INFORMATION CONTACT: Sungmo Cho, Aviation Safety Engineer, FAA, 1600 Stewart Avenue, Suite 410, Westbury, NY 11590; phone: (781) 238-7241; email: sungmo.d.cho@faa.gov.

SUPPLEMENTARY INFORMATION:

Background

EASA, which is the Technical Agent for the Member States of the European Union, has issued EASA AD 2022-0258, dated December 20, 2022 (EASA AD 2022-0258), to correct an unsafe condition on all Leonardo S.p.A. Model AB212, AB412, and AB412EP helicopters.

The FAA issued a notice of proposed rulemaking (NPRM) to amend 14 CFR part 39 by adding an AD that would apply to all Leonardo S.p.a. Model AB412 and AB412 EP helicopters. The NPRM published in the Federal Register on December 6, 2023 (88 FR 84767). The NPRM was prompted by reports of cracks in the lateral mounts of the main transmission support case. Such cracking is usually caused by excessive corrosion of the surface under a washer and originates from a washer attachment screw threaded hole. Cracking can occur at the upper or lower surfaces of the lateral mount. The NPRM proposed to require repetitive visual inspections and FPI and, depending on the results, corrective action, as specified in EASA AD 2022-0258.

The FAA is issuing this AD to detect and address cracking of the main transmission support case. The unsafe condition, if not addressed, could result in the loss of load carrying capabilities of the main transmission and subsequent loss of control of the helicopter. See EASA AD 2022-0258 for additional background information.

Discussion of Final Airworthiness Directive

Comments

The FAA received no comments on the NPRM or on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters. Except for a minor editorial change, this AD is adopted as proposed in the NPRM. The change will not increase the economic burden on any operator.

Related Service Information Under 1 CFR Part 51

EASA AD 2022-0258 requires repetitive visual inspections and FPIs of the main transmission support case and, depending on the findings, corrective action. Corrective actions include repairing or replacing the main transmission support case hardware including screws, washers, or case bushings, repairing the lateral mounts, or replacing the main transmission support case.

This material is reasonably available because the interested parties have access to it through their normal course of business or by the means identified in the ADDRESSES section.

Other Related Service Information

The FAA also reviewed Bell Helicopter Component Repair and Overhaul Manual (CR&O) BHT-412-CR&O Chapter 63, paragraphs 63-57 Transmission Main Support Case-Inspection and 63-58 Transmission Main Support Case-Repair, Revision 12, dated February 28, 2020. This service information specifies procedures for inspecting and repairing the main transmission support case.

Differences Between This AD and the EASA AD

EASA AD 2022-0258 applies to Model AB212 helicopters, whereas this AD does not because that model is not FAA type-certificated.

The service information referenced in EASA AD 2022-0258 specifies contacting Product Support Engineering for possible repairs regarding corrosion or pitting in the case bushings that exceeds allowable limits, whereas this AD requires repair done in accordance with a method approved by the FAA, EASA, or Leonardo S.p.a. Helicopters' EASA Design Organization Approval.

Where EASA AD 2022-0258 requires performing an FPI, this AD requires that the FPI be performed by a Level II or Level III inspector certified in the FAA-acceptable standards for nondestructive inspection personnel.

Costs of Compliance

The FAA estimates that this AD affects 69 helicopters of U.S. Registry. Labor rates are estimated at $85 per work-hour. Based on these numbers, the FAA estimates the following costs to comply with this AD.

Visually inspecting the main transmission support case takes approximately 2 work-hours for an estimated cost of $170 per helicopter and $11,730 for the U.S. fleet, per inspection cycle. Performing an FPI of the main transmission support case takes approximately 2 work-hours for an estimated cost of $170 per helicopter and $11,730 for the U.S. fleet, per inspection cycle.

The FAA has no way of determining the costs pertaining to necessary repairs that are required to be done. Replacing the transmission support case assembly hardware parts including screws, washers, and case bushings takes approximately 2 work-hours and parts cost up to $4,000 per helicopter for an estimated cost of up to $4,170 per helicopter. Replacing the main transmission support case takes approximately 47 work-hours and parts cost approximately $120,000 for an estimated cost of $123,995 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

39.13 [Amended]

2. The FAA amends § 39.13 by adding the following new airworthiness directive:

2024-04-05 Leonardo S.p.a.: Amendment 39-22684; Docket No. FAA 2023-2231; Project Identifier MCAI-2022-01623-R.

(a) Effective Date

This airworthiness directive (AD) is effective April 19, 2024.

(b) Affected ADs

None.

(c) Applicability

This AD applies to Leonardo S.p.a. Model AB412 and AB412 EP helicopters, certificated in any category.

(d) Subject

Joint Aircraft Service Component (JASC) Code: 6320, Main Rotor Gearbox.

(e) Unsafe Condition

This AD was prompted by reports of cracks in the lateral mounts of the main transmission support case. The FAA is issuing this AD to detect and address cracking of the main transmission support case. The unsafe condition, if not addressed, could result in the loss of load carrying capabilities of the main transmission and subsequent loss of control of the helicopter.

(f) Compliance

Comply with this AD within the compliance times specified, unless already done.

(g) Requirements

Except as specified in paragraph (h) of this AD: Comply with all required actions and compliance times specified in, and in accordance with, European Union Aviation Safety Agency (EASA) AD 2022-0258, dated December 20, 2022 (EASA AD 2022-0258).

(h) Exceptions to EASA AD 2022-0258

(1) Where EASA AD 2022-0258 refers to its effective date, this AD requires using the effective date of this AD.

(2) Where the service information referenced in EASA AD 2022-0258 specifies contacting Product Support Engineering for possible repairs regarding corrosion or pitting in a case bushing that exceeds allowable limits, this AD requires repair done in accordance with a method approved by the Manager, International Validation Branch, FAA; or EASA; or Leonardo S.p.a. Helicopters' EASA Design Organization Approval (DOA). If approved by the DOA, the approval must include the DOA-authorized signature.

(3) Where paragraphs (3) and (4) of EASA AD 2022-0258 require replacing a component, this AD requires removing the component from service.

(4) Where paragraph (5) of EASA AD 2022-0258 requires replacing the main transmission support case, this AD requires removing the main transmission support case assembly from service.

(5) Where paragraph (2) of EASA AD 2022-0258 requires accomplishing a fluorescent penetrant inspection (FPI) of the main transmission support case, this AD requires that FPI be accomplished by a Level II or Level III inspector certified in the FAA-acceptable standards for nondestructive inspection personnel.

Note 1 to paragraph (h)(5): Advisory Circular 65-31B contains examples of FAA-acceptable Level II and Level III qualification standards criteria for inspection personnel doing nondestructive test inspections.

(6) This AD does not adopt the “Remarks” section of EASA AD 2022-0258.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j) of this AD. Information may be emailed to: 9-AVS-AIR-730-AMOC@faa.gov.

(2) Before using any approved AMOC, notify your appropriate principal inspector, or lacking a principal inspector, the manager of the local flight standards district office/certificate holding district office.

(j) Related Information

For more information about this AD, contact Sungmo Cho, Aviation Safety Engineer, FAA, 1600 Stewart Avenue, Suite 410, Westbury, NY 11590; phone: (781) 238-7241; email: sungmo.d.cho@faa.gov.

(k) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2022-0258, dated December 20, 2022.

(ii) [Reserved]

(3) For EASA AD 2022-0258, contact EASA, Konrad-Adenauer-Ufer 3, 50668 Cologne, Germany; phone +49 221 8999 000; email ADs@easa.europa.eu; website easa.europa.eu. You may find the EASA material on the EASA website ad.easa.europa.eu.

(4) You may view this material at the FAA, Office of the Regional Counsel, Southwest Region, 10101 Hillwood Parkway, Room 6N-321, Fort Worth, TX 76177. For information on the availability of this material at the FAA, call (817) 222 5110.

(5) You may view this material at the National Archives and Records Administration (NARA). For information on the availability of this material at NARA, visit www.archives.gov/federal-register/cfr/ibr-locations or email fr.inspection@nara.gov.

Issued on February 16, 2024.
Victor Wicklund,
Deputy Director, Compliance & Airworthiness Division, Aircraft Certification Service.

[FR Doc. 2024-05478 Filed 3-14-24; 8:45 am]

BILLING CODE 4910-13-P